DEPARTMENT OF ENERGY

Federal Energy Regulatory Commission

[Project No. 15110-000]

Littoral Power Systems, Inc.; Notice of Preliminary Permit Application Accepted for Filing and Soliciting Comments, Motions To Intervene, and Competing Applications

On March 17, 2021, the Littoral Power Systems, Inc. filed an application for a preliminary permit, pursuant to section 4(f) of the Federal Power Act, proposing to study the feasibility of the proposed Kootznahoo Inlet Tidal Power Project No. 15110-000, to be located on Kootznahoo Inlet and adjacent lands of the City of Angoon, in Hoonah-Angoon Borough, Alaska. The sole purpose of a preliminary permit, if issued, is to grant the permit holder priority to file a license application during the permit term. A preliminary permit does not authorize the permit holder to perform any land-disturbing activities or otherwise enter upon lands or waters owned by others without the owners' express permission.

The proposed project would consist of the following: (1) A partially buoyant submersed tidal current energy converter with a 3-meter-diameter rotor tethered to an anchor post driven into the seabed in Kootznahoo inlet generating up to 300 kW; (2) a dual electric cable, each with a capacity of 13.2 kV, connecting to an on-land storage system; and (3) an on-land energy storage system in the City of Angoon consisting of individual lithium-ion battery cells. The Kootznahoo Inlet Tidal Power Project does not intend to directly connect to the Angoon electricity system. The capacity of the on-land storage system is 250kW and estimated average annual generation is not yet determined.

Applicant Contact: Stephen Barrett, 1596 Main Street, Concord, Massachusetts, 01742; phone: (339) 234-2696; email: steve@barrettenergygroup.com.

FERC Contact: Kristen Sinclair; phone: (202) 502-6587; email: kristen.sinclair@ferc.gov.

Deadline for filing comments, motions to intervene, competing applications (without notices of intent), or notices of intent to file competing applications: 60 days from the issuance of this notice. Competing applications and notices of intent must meet the requirements of 18 CFR 4.36.

The Commission strongly encourages electronic filing. Please file comments, motions to intervene, notices of intent, and competing applications using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY).

More information about this project, including a copy of the application, can be viewed or printed on the “eLibrary” link of Commission's website at http://www.ferc.gov/docs-filing/elibrary.asp. Enter the docket number (P-15110) in the docket number field to access the document. For assistance, contact FERC Online Support.

Dated: April 7, 2021.
Nathaniel J. Davis, Sr.,
Deputy Secretary.

[FR Doc. 2021-07618 Filed 4-13-21; 8:45 am]

BILLING CODE 6717-01-P